DEPARTMENT OF EDUCATION

Office of Vocational and Adult Education—Smaller Learning Communities Program

AGENCY: Department of Education.

ACTION: Notice of final priorities, application requirements, and selection criteria for Fiscal Year (FY) 2002.

SUMMARY: The purpose of the program is to promote academic achievement through the planning, implementation, or expansion of small, safe, and successful learning environments in large public high schools through competitive grants to local educational agencies (LEAs). LEAs, including schools funded by the Bureau of Indian Affairs (BIA schools), applying on behalf of large high schools are eligible applicants. For the purposes of this program, a large high school is defined as a school that includes grades 11 and 12 and enrolls at least 1,000 students in grades 9 and above.

The Assistant Secretary for Vocational and Adult Education announces final priorities, application requirements, and selection criteria for the Smaller Learning Communities (SLC) program for FY 2002. The Assistant Secretary may use one or more of these priorities for competitions in later years.

EFFECTIVE DATE: These priorities, application requirements and selection criteria are effective March 20, 2003.

FOR FURTHER INFORMATION CONTACT: For information on the program and to download a grant application, you may access the SLC program Web site at http://www.ed.gov/offices/OVAE/HS/SLCP/. If you have questions pertaining to the application, need further assistance or need to speak with someone in the SLC program, you may contact Karen Stratman Clark at (202) 205-3779, or by mail at 330 C Street, SW., Room 4423, Washington, DC 20202 or via the internet at karen.clark@ed.gov. Please type “SLC Notice Correspondence” as the subject line of your electronic message. Requests for applications may also be sent by fax to (202) 401-4079.

Individuals who use the telecommunications device for the deaf (TDD) may call the Federal Information Relay Service (FIRS) at 1-800-877-8339.

Individuals with disabilities may obtain this document in an alternative format (e.g., Braille, large print, audiotape, or computer diskette) on request to the contact persons listed above.

Note: This notice of priorities, application requirements, and selection criteria does not solicit applications. A notice inviting applications under this competition is published elsewhere in this issue of the Federal Register. The notice inviting applications specifies the deadline date by which applications for an award must be mailed or hand-delivered to the Department.

SUPPLEMENTARY INFORMATION:

General

The No Child Left Behind Act of 2001 is the most sweeping reform of Federal education policy in a generation. It is designed to implement the President's agenda to improve America's public schools by: (1) Ensuring accountability for results, (2) providing unprecedented flexibility in the use of Federal funds in implementing education programs, (3) focusing on proven educational methods, and (4) expanding educational choice for parents. Since the enactment of the original Elementary and Secondary Education Act in 1965, the Federal Government has spent more than $130 billion to improve public schools. Unfortunately, this investment in education has not yet eliminated the achievement gap between well-off and lower-income students or between minority students and non-minority students.

In implementing the No Child Left Behind Act of 2001, the U.S. Department of Education has developed a strategic plan that will serve as the roadmap for all Departmental activities and investments. The plan specifically focuses on, among other areas, improving the performance of all high school students and holding schools accountable for raising the academic achievement level of all students. The Department will work with States to ensure that students attain the strong academic knowledge and skills necessary for future success in postsecondary education and adult life. The Department will encourage students to take more rigorous courses, especially in the areas of math and science. In addition, the Department of Education is committed to ensuring that our Nation's schools are safe environments conducive to learning.

One strategy that holds promise for improving the academic performance of our Nation's young people is the establishment of smaller learning communities as components of comprehensive high school improvement plans. The problems of large high schools and the related question of optimal school size have been debated for the last 40 years and is of growing interest today. Approximately 70 percent of American high schools enroll 1,000 or more students; nearly 50 percent of high school students attend schools enrolling more than 1,500 students. Some students attend schools enrolling as many as 4,000 to 5,000 students.

While the research to date on school size is largely non-experimental, there is a growing body of evidence that suggests that smaller schools may have advantages over larger schools. Research suggests that the positive outcomes associated with smaller schools stem from the schools' ability to create close, personal environments in which teachers can work collaboratively, with each other and with a small set of students, to challenge students and support learning. A variety of structures and operational strategies are thought to provide important supports for smaller learning environments; some data suggest that these approaches offer substantial advantages to both teachers and students (Ziegler 1993; Caroll 1994).

The Smaller Learning Communities program is authorized under Title V, Part D, Subpart 4 of the Elementary and Secondary Education Act of 1965 (ESEA) (20 U.S.C. 7249), as amended by Pub. L. 107-110, the No Child Left Behind Act of 2001.

Structural changes for recasting large schools as a set of smaller learning communities are described in the Conference Report for the Consolidated Appropriations Act, 2000 (Pub. L. 106-113, H.R. Conference Report No. 106-479, at 1240 (1999)). Such methods include establishing small learning clusters, “houses,” career academies, magnet programs, and schools-within-a-school. Structural changes are necessary but not sufficient to ensure that the reorganization will result in improved academic performance. It is also necessary to define a set of operational considerations that describe what learning looks like in the restructured smaller learning community. For example, strategies that complement a restructured large high school should include at a minimum a focus on a rigorous academic course of study. Other activities may include: freshman transition activities, advisory and adult advocate systems, academic teaming, multi-year groupings, “extra help” or accelerated learning options for students or groups of students entering below grade level, and other innovations designed to create a more personalized high school experience for students and, thus, improve student achievement.

Prospective applicants are encouraged to review the program Web site for non-regulatory guidance and information about current grantees, and to review a successful application that received fiscal year 2001 funding at: http://www.ed.gov/offices/OVAE/HS/SLCP/.

Discussion of Priority or Priorities

Note: This notice does not solicit applications. In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Waiver of Proposed Rulemaking

In accordance with the Administrative Procedure Act (5 U.S.C. 553), it is the practice of the Secretary to offer interested parties the opportunity to comment on proposed rules. Section 437(d)(1) of the General Education Provisions Act (GEPA), however, allows the Secretary to exempt from this requirement rules governing the first competition under a new or substantially revised program authority (20 U.S.C. 1232(d)(1)). This competition is the first Smaller Learning Communities competition under the program as reauthorized by Public Law 107-110, the No Child Left Behind Act of 2001 and, therefore, qualifies for this exemption. The Secretary, in accordance with section 437(d)(1) of GEPA, exercises his authority to waive public comment in order to ensure timely grant awards. These rules will apply to the FY 2002 grant competition only.

Absolute Priority

Under 34 CFR 75.105(c)(3) the Secretary gives an absolute priority to applications in which the following conditions are met: (1) The applicant will place students in smaller learning communities based on student/parent choice or through random assignment—consistent with the statute, students may not be placed according to ability or any other measure, and not pursuant to testing or other judgments; and (2) The application must address the following instructional or operational issues:

a. How the applicant will provide a common core of rigorous academic courses tied to standards;

b. A process that the applicant will use for distribution of highly qualified teachers among SLCs in the school and strategies for improving teacher content knowledge;

c. Explicit strategies for providing assistance for struggling students; and

d. Strategies for securing widespread staff, community, and parent support for the initiative.

The Secretary will fund only applicants that meet the absolute priority described above and that meet all of the other requirements for this competition described elsewhere in this notice and in the accompanying notice inviting applications for new awards for fiscal year 2002.

Note: Applicants must clearly identify the proposed grant-funded smaller learning community in their application.

Competitive Preference Priority (up to 5 points)

In addition to the points to be awarded under the selection criteria for both planning and implementation grants, the Secretary proposes to award additional points to an application from an LEA applying on behalf of a high school that has failed to achieve adequate yearly progress for two or more consecutive years, as defined by section 1111 of the Elementary and Secondary Education Act of 1965, as amended by the No Child Left Behind Act of 2001. LEAs applying on behalf of one or more than one school will be awarded additional competitive preference points (up to five points) proportionate to the number of schools in the application that meet the criterion above. For example, an LEA applying on behalf of five schools would be awarded the maximum of five points if all five schools meet the criterion. An LEA applying on behalf of five schools would be awarded three out of a possible five points if only three of the schools meet the criterion.

Application Requirements

The Secretary announces the following application requirements for the Smaller Learning Communities program. A discussion of each requirement follows. These requirements are in addition to the content that all Smaller Learning Communities grant applicants must include in their applications as required by the program statute under Title V, Part D, Subpart 4, Section 5441(b) of the Elementary and Secondary Education Act. A discussion of each requirement follows:

A. Proof of Eligibility

To be considered for funding, LEAs must include for each eligible school included in the application the name of the eligible school and the number of students enrolled in the school. Enrollment must be based upon data from the current school year or from the most recently completed school year. LEAs, including schools funded by the BIA, applying on behalf of schools that are still being constructed and do not have an active student enrollment at the time of application are not eligible under this program.

B. Types and Ranges of Awards

The Secretary will award both planning and implementation grants under this competition. In an effort to encourage systemic, district-level reform efforts, the Secretary is permitting an individual LEA to submit only one planning grant application and one implementation grant application under this competition, specifying in each application which high schools the LEA intends to fund. An LEA may not apply for both a planning and implementation grant on behalf of the same high school. A high school may only be included in either the LEA's planning grant application or its implementation grant application. Applicants pursuing planning grant funds must not yet have developed a viable plan for creating smaller learning communities in the schools that would be served through the grant. To apply for implementation grant funds, applicants must be prepared either to implement a new smaller learning community program within each targeted high school, or to expand an existing smaller learning community program.

For a one-year planning grant, LEAs may receive, on behalf of a single school, $25,000 to $50,000. LEAs applying on behalf of a group of eligible schools may receive up to $250,000 per planning grant. As this program is designed for redesign and improvement efforts at the individual school level, districts must stay within the minimum and maximum school allocations when determining their award request. In addition, in order to ensure sufficient planning funds at the local level, LEAs may not request funds for more than 10 schools under a single application.

The chart below provides eligible ranges for awards under a planning grant:

Number of schools in LEA application | Award ranges
One school | $25,000-$50,000
Two schools | 50,000-100,000
Three schools | 75,000-150,000
Four schools | 100,000-200,000
Five schools | 125,000-250,000
Six schools | 150,000-250,000
Seven schools | 175,000-250,000
Eight schools | 200,000-250,000
Nine schools | 225,000-250,000
Ten schools | 250,000

In previous SLC competitions, applicants have routinely requested more money than the above award ranges dictate. As a result, plans submitted to the Department have included any number of activities that could only be made possible if an applicant received a funding amount much higher than intended in the award range. Based on this experience, the Department will fund only those applications that correctly request funds within the award ranges specified in this notice for both planning and implementation grants. Applicants requesting funding amounts higher than the award ranges dictated by the number of schools to be served will be declared ineligible and will not receive funding. Further, schools that received support through planning grants in the FY 2000 or FY 2001 competition are not eligible to receive support through additional planning grants under this competition.

For a three-year implementation grant, LEAs may receive, on behalf of a single school, $250,000 to $500,000. LEAs applying on behalf of a group of eligible schools may request up to $2,500,000 per implementation grant. As with planning grants, districts must stay within the minimum and maximum school allocations when determining their group award request, or the Department will consider the application ineligible. In order to ensure sufficient implementation funds at the local level, LEAs may not request funds for more than 10 schools under a single application.

The chart below provides eligible ranges for awards under the implementation grant:

Number of schools in LEA application | Award ranges
One school | $250,000-$500,000
Two schools | 500,000-1,000,000
Three schools | 750,000-1,500,000
Four schools | 1,000,000-2,000,000
Five schools | 1,250,000-2,500,000
Six schools | 1,500,000-2,500,000
Seven schools | 1,750,000-2,500,000
Eight schools | 2,000,000-2,500,000
Nine schools | 2,250,000-2,500,000
Ten schools | 2,500,000

As previously noted, LEAs may not apply on behalf of a single high school in more than one application. Schools that benefited from FY 2000 or FY 2001 implementation awards are not eligible to receive additional support under this competition.

Applicants should note that the requirements listed in this notice are material requirements. Please note that a failure to comply with any applicable program requirement (for example, failure to reasonably implement the proposed grant-funded project) may subject a grantee to administrative action, including the imposition of special conditions or termination of the grant.

C. Project Period

Planning grants will fund activities up to 12 months. Implementation grants will fund activities up to 36 months.

Note: Applicants for multi-year awards must provide detailed, yearly budget information for the total grant period requested. Understanding the unique complexities of implementing a program that affects a school's organization, physical design, curriculum, instruction, and preparation of teachers, the Secretary anticipates awarding the entire grant amount for implementation projects at the time of the initial award.

D. Page Limits

Applicants should limit the application narrative to no more than 25 double-spaced pages using the following standards:

• A page is 8.5″ x 11″, on one side only;

• The page limit includes all narrative, titles, headings, footnotes, quotations, references, and captions, as well as charts, tables, figures, and graphs. Charts, tables, figures, and graphs may be single-spaced;

• The font should be 12-point or larger;

The page limit does not apply to the Application for Federal Education Assistance Form (424); the SLC cover page; the Budget information Form (ED 524) and attached itemization of costs; any other required or supplementary application forms and attachments to those forms; the assurances and certifications; the table of contents; the one-page abstract (which should precede the narrative section and provide enrollment data for each eligible high school and a short description of the project); or appendices. Appendices used should relate directly to the selection criteria and project activities. Pages should be numbered.

E. Application and Reporting Requirements Related to Expected Outcomes

For both planning and implementation grants, applicants must describe their:

(a) Project activities, including measurable goals, objectives and timelines; and

(b) Indicators to gauge progress toward meeting project objectives.

In addition, the Secretary requires implementation grantees to collect data that address the performance indicators for this program, in order for them to produce annual performance reports. These reports will document the grantees' yearly progress toward expected project objectives. The Secretary will use these reports to measure the success of each grantee's project, as well as the effects of the Smaller Learning Communities program nationwide. A copy of the Smaller Learning Communities Annual Performance Report form for implementation grantees is included in the application package. Planning grantees will be required to submit a performance report, including their implementation plan, at the end of their project.

Applicants for an implementation grant must submit initial baseline data for each student outcome measure described below. Baseline data should come from either the current or previous school year. Applicants must report these data as an appendix. Upon notification of award, implementation grantees will be required to submit student outcome data for all participating schools for three years preceding the baseline year within forty-five days of the award date.

Required student outcome measures include:

I. Student Achievement

(a) Whether the schools achieved adequate yearly progress, as such term is defined under Title I, Part A of the Elementary and Secondary Education Act; and

(b) The percentage and number of students taking the SAT and ACT, and their average scores;

II. Academic Rigor and Student Retention

(a) The number of students who take courses for which they receive both high school and college credit, including AP or International Baccalaureate courses; and

(b) The overall reported average daily attendance for October.

III. School Climate

(a) The number of incidents of student violence and alcohol and drug use;

(b) The number of expulsions, suspensions, or other serious disciplinary actions; and

(c) The number of students involved in extracurricular activities.

Applicants for implementation grants who do not provide initial baseline data on the student outcome measures indicated above will be declared ineligible and will not receive funding.

Note: Percentages may be used in place of number of students where appropriate.

F. Definitions

(a) Definitions in EDGAR—Definitions defined in 34 CFR 77.1 are applicable to this program.

(b) Other definitions—The following definitions also apply to this program:

BIA school is a school operated or supported by the Bureau of Indian Affairs.

A group of schools is two or more schools that each meet the definition of a large high school.

A large high school is an entity that includes grades 11 and 12 and has an enrollment of 1,000 or more students in grades 9 and above.

Selection Criteria

The following selection criteria will be used to evaluate applications submitted for planning and implementation grants. Please note:

(a) The maximum score for both planning and implementation grants is 110 points. The additional 10 points will be awarded to those applicants that respond to the competitive preference described earlier in the notice.

(b) The maximum score for each criterion is indicated in parentheses.

Planning Grants

(a) Need for the project. (10 points)

In determining the need for the proposed project, the Department will consider the extent to which the applicant:

(1) Describes and documents evidence of the applicant schools' need for the proposed restructuring of the school learning environment. Need may be demonstrated by such factors as: Low student achievement scores; number of students enrolled; low attendance; low graduation rates; and high dropout rates; incidents of violence, drug and alcohol use, and disciplinary actions; percentage of students who have limited English proficiency, come from low-income families, or are otherwise disadvantaged; evidence of achievement gaps among student populations; or other need factors as identified by the applicant. (5 points)

(2) Documents how the creation of smaller learning communities will address the nature and magnitude of specific gaps or weaknesses in both structural and operational services, infrastructure, or opportunities within the learning environment. (5 points)

(b) Foundation for planning. (30 points)

In determining the merit of the proposed process for developing its smaller learning communities plan, the Department will consider the extent to which the applicant:

(1) Provides evidence on how the applicant has involved and secured the support of, and will continue to involve and secure the support of, teachers, administrators, and other pertinent staff within each school to be restructured in the planning process, particularly those teachers and other staff who will be directly affected by the implementation plan. (10 points)

(2) Provides evidence on how the applicant has involved and secured, and will continue to involve and secure, the support of individuals within the broader local community (such as parents, institutions of higher education, businesses, employers, and community organizations, including local non-profit agencies, faith-based organizations, and other service organizations) in the planning process. (5 points)

(3) Provides evidence on how the proposed effort aligns with the State's education reform efforts and State, or, when applicable, industry standards. (5 points)

(4) Describes the applicant's approach for identifying and utilizing evidence-based practices, particularly practices that are grounded in “scientifically-based research” as defined in section 9101(37) of the Elementary and Secondary Education Act, in designing the structural and operational changes necessary to accomplish the desired change in the learning environment. (10 points)

(c) Feasibility and soundness of the planning process. (40 points)

In determining the feasibility and soundness of the applicant's planning process, the Department will consider the extent to which the applicant:

(1) Proposes a process for developing a plan that, within a three-year grant period, will result in identification of the structural changes necessary to create smaller learning communities, assign all students to a smaller learning community within the school(s), and describe the method the school(s) will use to place students in a smaller learning community. (10 points)

(2) Proposes a feasible and sound process to conduct research and plan for the development of smaller learning communities that address the operational and instructional considerations needed to facilitate student achievement. These considerations include a common core of rigorous academic coursework and a clear, sequenced program of study, appropriate teacher assignment and professional development, strategies for assisting struggling students, and strategies for ensuring school, district and community engagement and support. (15 points)

(3) Proposes a process for developing a plan that would ensure appropriate autonomy of the smaller learning communities in their administrative and managerial relationship to the governance structure of the high school(s) and the local school district, including other Federal grants and how those programs will come together to produce a comprehensive and successful smaller learning communities project. (10 points)

(4) Proposes a process for developing a plan that includes quantifiable goals, objectives, and timelines for implementing structures and operational strategies needed for the implementation of smaller learning communities, and phasing them in over the period of the grant, addresses evidence of achievement gaps within student populations, and identifies key personnel who are qualified to undertake project activities. (5 points)

(d) Commitment of resources to the planning effort. (20 points)

In determining the commitment of resources to the planning process, the Department will consider the extent to which the applicant:

(1) Requests a budget that adequately supports the proposed activities. Expenditures on equipment and administrative costs should be limited. (10 points)

(2) Provides evidence that the administrators of the district and school(s) understand and are committed to the smaller learning community concept, and to the inclusion of rigorous academic courses in smaller learning communities and propose to integrate project planning activities with local policy and to use other State, local, and Federal funds to ensure sustainability of efforts after Federal support ends. (10 points)

Implementation Grants

(a) Need for the project. (10 points)

In determining the need for the proposed project, the Secretary will consider the extent to which the applicant:

(1) Describes and documents evidence of the applicant schools' need for implementation funds and how a smaller learning communities approach will facilitate improved student learning. Need may be demonstrated by such factors as: student achievement scores and enrollment; attendance and dropout rates; incidents of violence, drug and alcohol use, and disciplinary actions; percentage of students who have limited English proficiency, come from low-income families, or are otherwise disadvantaged; or other need factors as identified by the applicant. (5 points)

(2) Describes and documents the nature and magnitude of specific gaps or weaknesses in current school services, infrastructure, or opportunities and how the proposed project will address these gaps and weaknesses. (5 points)

(b) Foundation for implementation. (25 points)

In determining the quality of the implementation plan, the Department will consider the extent to which the applicant:

(1) Provides evidence of the involvement and support of teachers, administrators, and other pertinent staff within each school in the planning, development, and implementation of the proposal, particularly those teachers who will be directly affected by the implementation plan. (5 points)

(2) Provides evidence of how the applicant has involved and secured, and will continue to involve and secure, the on-going support of stakeholders within the broader local community (such as parents, institutions of higher education, businesses, employers, and community organizations, including local non-profit agencies, faith-based organizations, and other service organizations) in the planning process. (5 points)

(3) Provides evidence of how the proposed effort aligns with State education reform efforts designed to increase student achievement (5 points); and

(4) Provides evidence of how the applicant has identified and used evidence-based practices in the development of structural and operational strategies for creating smaller learning communities designed to improve student achievement. (10 points)

Note: Implementation grant applicants who received planning grants under either the FY 2000 or the FY 2001 SLC competition are further required to describe the impact of the funded planning activities on their implementation plan. Further, such applicants should note that the Secretary will review both the expenditure rates and the progress achieved of SLC planning grantees requesting implementation funds.

(c) Project design. (30 points)

In determining the quality of the design of the project the Department will consider the extent to which the applicant:

(1) Proposes both structural and operational changes that result in the establishment of smaller learning communities designed to improve the academic performance of participating students. These changes may include, but are not limited to, development of programs of study that include rigorous academic coursework, freshman transition activities, and innovations to create a more personalized and safe learning environment. The applicant clearly defines the proposed smaller learning community, including the structures and strategies to be implemented, the grade levels or ages of the students who will participate and the rationale and research base supporting the applicant's contention that these particular structures are likely to be effective in raising achievement and helping all students make more informed choices about postsecondary education and longer-term career options. (10 points)

(2) Provides evidence that decisions about how students will be placed in the smaller learning community or communities will be made based on student/parent choice or random assignment. The applicant provides assurances that placement by smaller learning community will not be based on ability, testing or other judgments or any other measure, and describes the process for making smaller learning community student assignments. The applicant also assures that, by the end of the three-year grant period, all students will be assigned to a smaller learning community structure within the school(s). (5 points)

(3) Describes the applicant's operational strategies for improving the learning environment including (1) the common academic core curriculum and standards, (2) how teachers will be assigned to SLCs and provided with appropriate content and knowledge specific to smaller learning community implementation, (3) strategies for assisting struggling students, and strategies for securing and maintaining widespread staff, community and parent buy-in. (10 points)

(4) Documents the administrative and managerial relationship of the smaller learning communities to the governance structure of the high school(s) and the local school district, including the LEA's operation of other Federal grants, and demonstrates a commitment to sustain the smaller learning community structures beyond the period covered by the Federal smaller learning communities grant. The applicant must describe the timeline and milestones for implementing the proposed structures and strategies and for phasing them in over the period of the grant. (5 points)

(d) Feasibility of the plan. (15 points)

In determining the feasibility of the implementation plan, the Department will consider the extent to which the applicant:

(1) Provides a budget that adequately supports the proposed activities. In addition, items in the budget must clearly reflect the proposed goals and objectives in the application. (5 points)

(2) Provides evidence that the proposed project will provide high-quality professional development for teachers in their academic content areas as well as professional development for other pertinent staff, to enable them to improve classroom instruction and target instruction to helping all students meet challenging academic content standards. This professional development must be aligned with the goals, curriculum, and evidence-based instructional practices of the proposed smaller learning communities. (5 points)

(3) Provides evidence of, or proposes, an ongoing partnership with an external technical assistance provider. (5 points)

(e) Quality of the project evaluation. (10 points)

In determining the quality of the applicant's project evaluation plan, the Department will consider the extent to which the applicant:

(1) Describes the overall evaluation strategy, including the applicant's plan to contract with an independent, third-party evaluator and the measures that evaluator will use to determine (a) progress of implementation and (b) changes in student outcomes, especially student achievement, both school-wide and disaggregated by the population categories identified in section 1111(b)(3)(C)(xiii) of the Elementary and Secondary Education Act; (5 points)

(2) Describes the method of collecting and reporting the required data for the Annual Performance Reports to the Department of Education (2 points); and

(3) Describe how the proposed project will address the school's efforts to make adequate yearly progress as defined in section 1111 of the Elementary and Secondary Education Act and how information gleaned from student assessments, and used in adequate yearly progress determination, will be used for project improvement within the school. (3 points)

(f) Adequacy of resources. (10 points)

In determining the adequacy of resources, the Department will consider the extent to which the applicant:

(1) Focuses grant expenditures on activities that directly affect the structural and operational changes needed to establish SLCs that will endure beyond the life of the grant, and how the applicant will limit expenditures on equipment and administrative costs. (5 points)

(2) Documents qualifications and availability of project personnel responsible for implementing the project plan, and the amount of time they will dedicate to this effort. (5 points)

Intergovernmental Review of Federal Programs

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://access.gpo.gov/nara/index.html.

(Catalogue of Federal Assistance Number: 84.215L Smaller Learning Communities program)

Applicable Program Regulations: 34 CFR parts 75, 77, 79, 80, 81, 82, 85, 86, 97, 98, and 99.

Program Authority: 20 U.S.C. 7249.

Dated: March 14, 2003.
Richard La Pointe,
Acting Assistant Secretary, Vocational and Adult Education.

[FR Doc. 03-6699 Filed 3-19-03; 8:45 am]

BILLING CODE 4000-01-P